SMALL BUSINESS ADMINISTRATION

[Declaration of Disaster #3642]

Commonwealth of Virginia; Amendment #2

In accordance with a notice received from the Department of Homeland Security—Federal Emergency Management Agency—effective September 30, 2004, the above numbered declaration is hereby amended to establish the incident period for this disaster as beginning September 27, 2004, and continuing through September 30, 2004.

All other information remains the same, i.e., the deadline for filing applications for physical damage is December 17, 2004 and for economic injury the deadline is July 18, 2005.

(Catalog of Federal Domestic Assistance Program Nos. 59002 and 59008).
Dated: November 1, 2004.
Herbert L. Mitchell,
Associate Administrator for Disaster Assistance.

[FR Doc. 04-24816 Filed 11-5-04; 8:45 am]

BILLING CODE 8025-01-P